DEPARTMENT OF AGRICULTURE

Natural Resources Conservation Service

EQIP for GPAs, New Mexico

AGENCY: Natural Resources Conservation Service, USDA.

ACTION: Notice of a finding of no significant impact.

SUMMARY: Pursuant to section 102(2)(c) of the National Environmental Policy Act of 1969; the Council on Environmental Quality Regulations (40 CFR part 1500); and the Natural Resources Conservation Service Regulations (7 CFR part 650); the U.S. Department of Agriculture, Natural Resources Conservation Service, in New Mexico, gives notice that an environmental impact statement is not being prepared for: Dry Cropland in Parts of Curry, Quay, and Roosevelt Counties, Santa Clara Pueblo Irrigated Lands in Rio Arriba County. Irrigated Cropland in Curry and Roosevelt Counties, Socorro County Irrigated Valley and Rio Cebolla in Rio Arriba County.

FOR FURTHER INFORMATION CONTACT: Rosendo Trevino III, State Conservationist; Natural Resources Conservation Service; 6200 Jefferson, NE; Albuquerque, NM 87109-3734; Telephone (505)761-4400.

Copies of these environmental assessements are available from NRCS in Albuquerque, NM and are also available electronically on the NRCS New Mexico Internet Homepage at: http://www.nm.nrfcs.usda.gov/techserv/ea.htm.

SUPPLEMENTARY INFORMATION: The environmental assessments of these federally assisted action indicates that the projects will not cause significant local, regional, or national effects on the human environment. As a result of these findings, Rosendo Trevino III, State Conservationist, has determined that the preparation and review of an environmental impact statement are not needed for these project. Basic data developed during the environmental assessment is on file and may be reviewed by contacting Rosendo Trevino III.

No administrative action on implementation of the proposed action will be taken until 30 days after the date of this publication in the Federal Register.

Dated: December 10, 2001.
Rosendo Trevino III,
State Conservationist.

[FR Doc. 01-31744 Filed 12-26-01; 8:45 am]

BILLING CODE 3410-16-P